DEPARTMENT OF THE TREASURY

Proposed Collection; Comment Request

AGENCY: Departmental Offices, Department of the Treasury.

SUMMARY: The Department of the Treasury, as part of its continuing effort to reduce paperwork burdens, invites the general public and other Federal agencies to comment on renewal of a currently approved information collection that is to be proposed for approval by the Office of Management and Budget. The Office of International Affairs within the Department of the Treasury is soliciting comments concerning Treasury International Capital (TIC) Forms BC, BL-1, BL-2, BQ-1, BQ-2, and BQ-3 (called the “TIC B forms”). The collections are mandatory.

DATES: Written comments should be received on or before December 1, 2025 to be assured of consideration.

ADDRESSES: Direct all written comments to Dwight Wolkow, International Portfolio Investment Data Systems, Department of the Treasury, Room 1050, 1500 Pennsylvania Avenue NW, Washington, DC 20220. In view of possible delays in mail delivery, please also notify Mr. Wolkow by email (comments2TIC@treasury.gov) or telephone (202-622-1276).

FOR FURTHER INFORMATION CONTACT: Copies of the proposed forms and instructions are available on the Treasury's TIC Forms web page, https://home.treasury.gov/data/treasury-international-capital-tic-system/tic-forms-instructions. Requests for additional information should be directed to Mr. Wolkow (comments2TIC@treasury.gov or 202-622-1276).

SUPPLEMENTARY INFORMATION:

Titles: Treasury International Capital (TIC) Form BC “Monthly Report of U.S. Dollar Claims of Financial Institutions on Foreign Residents;” TIC BL-1 “Monthly Report of U.S. Dollar Liabilities of Financial Institutions to Foreign Residents;” TIC BL-2 “Monthly Report of Customers' U.S. Dollar Liabilities to Foreign Residents;” TIC BQ-1 “Quarterly Report of Customers' U.S. Dollar Claims on Foreign Residents;” TIC BQ-2 “Part 1: Quarterly Report of Foreign Currency Liabilities and Claims of Financial Institutions and of their Domestic Customers' Foreign Currency Claims with Foreign Residents” and “Part 2: the Report of Customers' Foreign Currency Liabilities to Foreign Residents;” and TIC BQ-3 “Quarterly Report of Maturities of Selected Liabilities and Claims of Financial Institutions with Foreign Residents.”

OMB Control Number: 1505-0016.

Abstract: Forms BC, BL-1, BL-2, BQ-1, BQ-2, BQ-3 are part of the Treasury International Capital (TIC) reporting system, which is required by law (22 U.S.C. 286f; 22 U.S.C. 3103; E.O. 10033; 31 CFR 128) and are designed to collect timely information on international portfolio capital movements. Reporting organizations report data as follows: own monthly claims on foreign residents, denominated in U.S. dollars (Form BC); own monthly liabilities to foreign residents, denominated in U.S. dollars (form BL-1); U.S. customers' monthly liabilities to foreign residents, denominated in U.S. dollars (form BL-2); U.S.-resident customers' quarterly U.S. dollar claims on foreign residents, denominated in foreign currencies (BQ-1); own and their domestic customers' quarterly claims and liabilities with foreign residents, denominated in foreign currencies (BQ-2); remaining maturities of all their own quarterly U.S. dollar and foreign currency liabilities and claims (excluding securities) with foreign residents. This information is used by the U.S. Government in the formulation of international financial and monetary policies and for the preparation of the U.S. balance of payments accounts and the U.S. international investment position.

Current Actions: No changes in the forms or instructions are proposed at this time.

Type of Review: Extension of a currently approved collection.

Affected Public: Business or other for-profit organizations.

Forms: BC, BL-1, BL-2, BQ-1, BQ-2, and BQ-3.

Estimated Number of Respondents: BC, 271; BL-1, 280; BL-2, 80; BQ-1, 53; BQ-2, 170; BQ-3, 118.

Estimated Average Time per Respondent per Filing: BC, 11.2 hours; BL-1, 7.8 hours; BL-2, 9.2 hours; BQ-1, 4.2 hours; BQ-2, 7.8 hours; and BQ-3, 10.5 hours. The average time varies, and is estimated to be generally twice as many hours for major data reporters as for other reporters.

Estimated Total Annual Burden Hours: BC, 37,150 hours for 12 reports per year; BL-1, 26,525 hours for 12 reports per year; BL-2, 8,845 hours for 12 reports per year; BQ-1, 890 hours for 4 reports per year, BQ-2, 5,410 hours for 4 reports per year; and BQ-3, 4,960 hours for 4 reports per year.

Request for Comments: Comments submitted in response to this notice will be summarized and/or included in the request for Office of Management and Budget approval. All comments will become a matter of public record. The public is invited to submit written comments concerning: (a) whether Forms BC, BL-1, BL-2, BQ-1, BQ-2, and BQ-3 are necessary for the proper performance of the functions of the Office, including whether the information will have practical uses; (b) the accuracy of the above estimate of the burdens; (c) ways to enhance the quality, usefulness and clarity of the information to be collected; (d) ways to minimize the reporting and/or record keeping burdens on respondents, including the use of information technologies to automate the collection of the data; and (e) estimates of capital or start-up costs of operation, maintenance and purchase of services to provide information.

Dwight Wolkow,
Administrator, International Portfolio Investment Data Reporting Systems.

[FR Doc. 2025-18921 Filed 9-29-25; 8:45 am]

BILLING CODE 4810-AK-P